SECURITIES AND EXCHANGE COMMISSION

[Release No. 34-81567; File No. SR-Phlx-2017-34]

Self-Regulatory Organizations; NASDAQ PHLX LLC; Notice of Designation of a Longer Period for Commission Action on a Proposed Rule Change To Add an Exception to Phlx Rule 1000(f)(iii) for Certain Floor Broker Transactions and Adopt Rule 1063(e)(v) To Add the Snapshot Functionality to the Options Floor Broker Management System

September 11, 2017.

On July 18, 2017, NASDAQ PHLX LLC (“Exchange”) filed with the Securities and Exchange Commission (“Commission”), pursuant to Section 19(b)(1) of the Securities Exchange Act of 1934 (“Act”) ¹ and Rule 19b-4 thereunder,² a proposed rule change to add an exception to Phlx Rule 1000(f)(iii) ³ to permit Floor Brokers to execute (1) multi-leg orders,⁴ and (2) simple orders in options on Exchange Trade Funds (“ETFs”) that are included in the Penny Pilot, in the trading crowd using “Snapshot,” a new functionality Phlx is proposing for its Floor Broker Management System (“FBMS”).⁵ The proposed rule change was published for comment in the Federal Register on August 1, 2017.⁶ The Commission has received no comment letters on the proposed rule change.

¹ 15 U.S.C. 78s(b)(1).

² 17 CFR 240.19b-4.

³ Phlx Rule 1000(f) requires that all Exchange options transactions be executed in one of the following three ways: (i) [a]utomatically by the [Exchange's Trading System] pursuant to Phlx Rule 1080 and other applicable options rules, (ii) by and among members in the Exchange's options trading crowd none of whom is a floor broker; or (iii) through the Options Floor Broker Management System for trades involving a least one Floor Broker. Phlx rules currently permit four exceptions to Phlx Rule 1000(f)(iii). See Rule Rule 1000(f)(iii)(A)-(D).

⁴ See Phlx Rule 1066(f) (defining multi-leg orders).

⁵ The Snapshot functionality would be codified in a new proposed rule, Phlx Rule 1063(e)(v).

⁶ See Securities Exchange Act Release No. 81230 (July 27, 2017), 82 FR 35858.

Section 19(b)(2) of the Act ⁷ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is September 15, 2017.

⁷ 15 U.S.C. 78s(b)(2).

The Commission is extending the 45-day time period for Commission action on the proposed rule change. The Commission finds that it is appropriate to designate a longer period within which to take action on the proposed rule change so that it has sufficient time to consider and take action on the Exchange's proposed rule change.

Accordingly, the Commission, pursuant to Section 19(b)(2) of the Act,⁸ designates October 30, 2017, as the date by which the Commission should either approve or disapprove, or institute proceedings to determine whether to disapprove, the proposed rule change (File Number SR-Phlx-2017-34).

⁸ Id.

For the Commission, by the Division of Trading and Markets, pursuant to delegated authority.⁹
⁹ 17 CFR 200.30-3(a)(31).
Eduardo A. Aleman,
Assistant Secretary.

[FR Doc. 2017-19581 Filed 9-14-17; 8:45 am]

BILLING CODE 8011-01-P